DEPARTMENT OF ENERGY

Federal Energy Regulatory Commission

Notice of Applications For Amendment of License and Soliciting Comments, Motions To Intervene, and Protests

March 15, 2001.

Take notice that the following applications have been filed with the Commission and are available for public inspection.

a. Application Type: Non-Project Use of Project Lands and Waters.

b. Project No: 2210-066.

c. Date Filed: February 21, 2001.

d. Applicant: American Electric Power (AEP).

e. Name of Project: Smith Mountain.

f. Location: The project is located on the Roanoke River, in Bedford, Pittsylvania, Franklin, and Roanoke Counties, Virginia.

g. Filed Pursuant to: Federal Power Act, 16 U.S.C. 791(a) 825(r) and 799 and 801.

h. Applicant Contact: Frank M. Simms, Fossil and Hydro Operations, American Electric Power, 1 Riverside Plaza, Columbus, Ohio 43215, (614) 223-2918.

i. FERC Contact: Any questions on this notice should be addressed to Mr. Brian Romanek at (202) 219-3076.

j. Deadline for filing comments and or motions: April 20, 2001.

All documents (original and eight copies) should be filed with: David P. Boergers, Secretary, Federal Energy Regulatory Commission, 888 First Street, NE., Washington, DC 20426. Comments, protests, and interventions may be filed electronically via the Internet in lieu of paper. See, 18 CFR 385.2001(a)(1)(iii) and the instructions on the Commission's web site at http://www.ferc.fed.us/efi/doorbell.htm

k. Description of Request: Please incude the specific project number (P-2210-066) on any comments or motions filed.

American Electric Power proposes to permit J.W. Development, Inc. to construct 182 boat slips within the project boundary to provide access to the project reservoir for residents of the Mariner's Landing Development located adjacent to but outside of the project boundary and for patrons of a hearby restaurant. The sliips would be constructed at three locations along the shore (138 slips at Michell's Cove, 40 slips at The Pointe, and 4 slips at the 6th Fairway or Mononacan Shores).

l. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other commenets filed, but only those who file a motion to intervene in accordance with the Commission's Rules may become a party to the proceeding. Any comments, protests, or motions to intervene must be rreceived on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-7004 Filed 3-20-01; 8:45 am]

BILLING CODE 6717-01-M